DEPARTMENT OF TRANSPORTATION

Federal Aviation Administration

14 CFR Part 39

[Docket No. FAA-2022-1572; Project Identifier MCAI-2022-00350-T; Amendment 39-22388; AD 2023-06-02]

RIN 2120-AA64

Airworthiness Directives; Bombardier, Inc. Airplanes

AGENCY: Federal Aviation Administration (FAA), DOT.

ACTION: Final rule.

SUMMARY: The FAA is adopting a new airworthiness directive (AD) for all Bombardier, Inc., Model CL-600-1A11 (600), CL-600-2A12 (601), and CL-600-2B16 (601-3A, 601-3R, and 604 Variants) airplanes. This AD was prompted by a determination that, due to a lack of flightcrew awareness, smoke hoods with a certain part number installed throughout the airplane could be mistaken for protective breathing equipment (PBE). This AD requires an inspection or records review to determine if any smoke hood with a certain part number is installed in any location on the airplane and, depending on the results, removing the smoke hood and associated placards and installing new placards. The FAA is issuing this AD to address the unsafe condition on these products.

DATES: This AD is effective May 18, 2023.

The Director of the Federal Register approved the incorporation by reference of certain publications listed in this AD as of May 18, 2023.

ADDRESSES:

AD Docket: You may examine the AD docket at regulations.gov under Docket No. FAA-2022-1572; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact Bombardier Business Aircraft Customer Response Center, 400 Côte-Vertu Road West, Dorval, Québec H4S 1Y9, Canada; telephone 514-855-2999; email ac.yul@aero.bombardier.com; website: bombardier.com.

• You may view this service information at the FAA, Airworthiness Products Section, Operational Safety Branch, 2200 South 216th Street, Des Moines, WA. For information on the availability of this material at the FAA, call 206-231-3195. It is also available at regulations.gov under Docket No. FAA-2022-1572.

FOR FURTHER INFORMATION CONTACT: Chirayu Gupta, Aerospace Engineer, Mechanical Systems and Administrative Services Section, FAA, New York ACO Branch, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to all Bombardier, Inc., Model CL-600-1A11 (600), CL-600-2A12 (601), and CL-600-2B16 (601-3A, 601-3R, and 604 Variants) airplanes. The NPRM published in the Federal Register on December 6, 2022 (87 FR 74535). The NPRM was prompted by AD CF-2022-10, dated March 10, 2022, (referred to after this as the MCAI) issued by Transport Canada, which is the aviation authority for Canada. The MCAI states that Bombardier, Inc., determined that, due to a lack of flightcrew awareness, smoke hoods with a certain part number installed throughout the airplane could be mistaken for PBE. The MCAI requires that operators verify if a smoke hood with a certain part number is installed in any location on the airplane and, depending on the results, removing the smoke hood and associated placards and installing new placards. The MCAI states that in a fire or smoke event the flightcrew might initially attempt to use the smoke hood believing it to be PBE, which could result in a delay in identifying the source of the smoke or fire.

In the NPRM, the FAA proposed to require an inspection or records review to determine if any smoke hood with a certain part number is installed in any location on the airplane and, depending on the results, removing the smoke hood and associated placards and installing new placards. The FAA is issuing this AD to address the unsafe condition on these products. You may examine the MCAI in the AD docket at regulations.gov under Docket No. FAA-2022-1572.

Discussion of Final Airworthiness Directive

Comments

The FAA received a comment from one commenter, Boeing Executive Flight Operations. The following presents the comment received on the NPRM and the FAA's response to the comment.

Request To Update the Service Information to the Latest Revision

Boeing Executive Flight Operations requested that the FAA include Bombardier Service Bulletin 650-25-016, Revision 01, dated June 07, 2022, for Model CL-600-2B16 (604 Variants) Serial Number 6050 to 6099. The FAA infers that the commenter is requesting that the proposed AD be revised to refer to Bombardier Service Bulletin 650-25-016, Revision 01, dated June 07, 2022 (the proposed AD refers to Bombardier Service Bulletin 650-25-016, dated September 22, 2021, as the appropriate source of service information).

The FAA agrees to update this final rule to reference Bombardier Service Bulletin 650-25-016, Revision 01, dated June 07, 2022, which adds minor changes that do not affect the substantive requirements proposed in the NPRM. The FAA has revised paragraph (h)(5) of this AD to specify that required actions be done in accordance with Bombardier Service Bulletin 650-25-016, Revision 01, dated June 07, 2022; or Bombardier Service Bulletin 650-25-016, dated September 22, 2021.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

The FAA reviewed the following Bombardier, Inc. service information, which specifies procedures for verifying (via inspection or records review) if any smoke hood having part number MR-10008N is installed in the flight deck, forward wardrobe or any location on the airplane, removing any affected smoke hood and associated placards, and installing new placards. These documents are distinct since they apply to different airplane models and configurations.

• Bombardier Service Bulletin 600-0778, dated September 22, 2021.

• Bombardier Service Bulletin 601-1110, dated September 22, 2021.

• Bombardier Service Bulletin 604-25-004, dated September 22, 2021.

• Bombardier Service Bulletin 605-25-014, dated September 22, 2021.

• Bombardier Service Bulletin 650-25-016, dated September 22, 2021.

• Bombardier Service Bulletin 650-25-016, Revision 01, dated June 07, 2022.

This service information is reasonably available because the interested parties have access to it through their normal course of business or by the means identified in the ADDRESSES section.

Costs of Compliance

The FAA estimates that this AD affects 698 airplanes of U.S. registry. The FAA estimates the following costs to comply with this AD:

Estimated Costs for Required Actions
Labor cost | Parts cost | Cost per product | Cost on U.S. operators
1 work-hours × $85 per hour = $85 | $0 | $85 | $59,330

The FAA estimates the following costs to do any necessary on-condition actions that would be required based on the results of any required actions. The FAA has no way of determining the number of aircraft that might need these on-condition actions:

Estimated Costs of On-Condition Actions
Labor cost | Parts cost | Cost per product
1 work-hour × $85 per hour = $85 | $9 | $94

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-06-02 Inc: Amendment 39-22388; Docket No. FAA-2022-1572; Project Identifier MCAI-2022-00350-T.

(a) Effective Date

This airworthiness directive (AD) is effective May 18, 2023.

(b) Affected ADs

None.

(c) Applicability

This AD applies to all Bombardier, Inc., airplanes, certificated in any category, as identified in paragraphs (c)(1) through (3) of this AD.

(1) Model CL-600-1A11 (600) airplanes.

(2) Model CL-600-2A12 (601) airplanes.

(3) Model CL-600-2B16 (601-3A, 601-3R, and 604 Variants) airplanes.

(d) Subject

Air Transport Association (ATA) of America Code: 25, Equipment/furnishings.

(e) Unsafe Condition

This AD was prompted by a determination that, due to a lack of flightcrew awareness, smoke hoods with a certain part number installed throughout the airplane could be mistaken for protective breathing equipment (PBE). The FAA is issuing this AD to address, in a fire or smoke event, that the flightcrew might initially attempt to use the smoke hood believing it to be PBE. The unsafe condition, if not addressed, could result in a delay in identifying the source of the smoke or fire.

(f) Compliance

Comply with this AD within the compliance times specified, unless already done.

(g) Inspection

Within 12 months after the effective date of this AD: Do an inspection to determine if any smoke hood having part number (P/N) MR-10008N is installed in the flight deck, forward wardrobe, or any other location in the airplane. A review of airplane maintenance records is acceptable in lieu of this inspection if the part number of the smoke hood can be conclusively determined from that review.

(h) Corrective Action

If, during the inspection or records review required by paragraph (g) of this AD, any smoke hood having P/N MR-10008N is found on the airplane, within 12 months after the effective date of this AD, remove the smoke hood, including any associated placards, and install a new placard, in accordance with Section 2.B. of the Accomplishment Instructions of the applicable Bombardier service bulletin specified in paragraphs (h)(1) through (5) of this AD; or the method specified in paragraph (h)(6) of this AD; as applicable.

(1) For Model CL-600-1A11 (600) airplanes: Bombardier Service Bulletin 600-0778, dated September 22, 2021.

(2) For Model CL-600-2A12 (601) airplanes: Bombardier Service Bulletin 601-1110, dated September 22, 2021.

(3) For Model CL-600-2B16 airplanes (604 variant) with serial numbers 5301 through 5644 inclusive: Bombardier Service Bulletin 604-25-004, dated September 22, 2021.

(4) For Model CL-600-2B16 (604 variant) airplanes with serial numbers 5701 through 5988 inclusive: Bombardier Service Bulletin 605-25-014, dated September 22, 2021.

(5) For Model CL-600-2B16 airplanes (604 variant) with serial numbers 6050 through 6099 inclusive: Bombardier Service Bulletin 650-25-016, dated September 22, 2021; or Bombardier Service Bulletin 650-25-016, Revision 01, dated June 07, 2022.

(6) For Model CL-600-2B16 (601-3A and 601-3R Variants) airplanes: A method approved by the Manager, New York ACO Branch, FAA; or Transport Canada; or Bombardier, Inc.'s Transport Canada Design Approval Organization (DAO). If approved by the DAO, the approval must include the DAO-authorized signature.

(i) Additional AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the New York ACO Branch, mail it to ATTN: Program Manager, Continuing Operational Safety, at the address identified in paragraph (j)(2) of this AD or email to: 9-avs-nyaco-cos@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada; or Bombardier, Inc.'s Transport Canada Design Approval Organization (DAO). If approved by the DAO, the approval must include the DAO-authorized signature.

(j) Additional Information

(1) Refer to Transport Canada AD CF-2022-10, dated March 10, 2022, for related information. This Transport Canada AD may be found in the AD docket at regulations.gov under Docket No. FAA-2022-1572.

(2) For more information about this AD, contact Chirayu Gupta, Aerospace Engineer, Mechanical Systems and Administrative Services Section, FAA, New York ACO Branch, 1600 Stewart Avenue, Suite 410, Westbury, NY 11590; telephone 516-228-7300; email 9-avs-nyaco-cos@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) Bombardier Service Bulletin 600-0778, dated September 22, 2021.

(ii) Bombardier Service Bulletin 601-1110, dated September 22, 2021.

(iii) Bombardier Service Bulletin 604-25-004, dated September 22, 2021.

(iv) Bombardier Service Bulletin 605-25-014, dated September 22, 2021.

(v) Bombardier Service Bulletin 650-25-016, dated September 22, 2021.

(vi) Bombardier Service Bulletin 650-25-016, Revision 01, dated June 07, 2022.

(3) For service information identified in this AD, contact Bombardier Business Aircraft Customer Response Center, 400 Côte-Vertu Road West, Dorval, Québec H4S 1Y9, Canada; telephone 514-855-2999; email ac.yul@aero.bombardier.com; website: bombardier.com.

(4) You may view this service information at the FAA, Airworthiness Products Section, Operational Safety Branch, 2200 South 216th Street, Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on March 14, 2023.
Christina Underwood,
Acting Director, Compliance & Airworthiness Division, Aircraft Certification Service.

[FR Doc. 2023-07738 Filed 4-12-23; 8:45 am]

BILLING CODE 4910-13-P